DEPARTMENT OF TRANSPORTATION

Federal Aviation Administration

Space Transportation Infrastructure Matching Grants Program

AGENCY: Federal Aviation Administration (FAA), DOT.

ACTION: Notice of request for grant proposals for the Space Transportation Infrastructure Matching Grants Program.

SUMMARY: This notice solicits Fiscal Year (FY) 2012 grant proposals to continue the development of a Commercial Space Transportation infrastructure system that supports the National Space Policy and Congressional intent. Begun in 2010, the program supports the Commercial Space Transportation industry by identification, prioritization, and funding for Commercial Space Transportation infrastructure projects. This program has been previously referred to as the Commercial Space Transportation Grants Program.

The FAA/AST intends to continue funding the Space Transportation Infrastructure Matching Grants Program for FY 2012. However, funding has not been determined at this time. In order for the FAA/AST to swiftly execute grant awards within FY 2012, should funding be available, the FAA/AST is requesting grant applications at this time. The FAA/AST intends to receive, process, and evaluate the applications in a timely manner, and in accordance with the notional schedule listed below, so should there be available funding, the recipients will already be selected and the awards can be made within FY 2012. There remains the possibility that no funds will be available in FY 2012 for the Space Transportation Infrastructure Matching Grants Program. If no funds are available, no grant applications submitted in response to this Notice will be approved and funded.

This Notice will be the only solicitation made for FY 2012 projects and proposals. The FAA/AST will review and evaluate all applications for a grant received by the deadline, pursuant to 51 U.S.C. Chapter 511. The FAA/AST may make one or more grant awards based upon its evaluations of the submissions. All grants awarded under the Space Transportation Infrastructure Matching Grants Program are discretionary awards. Projects to be funded under the Space Transportation Infrastructure Matching Grants Program must carry out commercial space transportation infrastructure development, as defined in 51 U.S.C. 51101.

DATES: In order for the FAA/AST to award funds (if appropriated) before the end of FY 2012, the following notional schedule is provided.

Submission Open Period Opens: March 8, 2012.

Submission Open Period Closes: May 11, 2012.

Review, Selection, and Approval Period: May 14, 2012 to June 1, 2012.

Announcement: July 17, 2012.

ADDRESSES: Applicants can get more information about the Space Transportation Infrastructure Matching Grants Program, to include a checklist for the submission package, by:

1. Accessing the Office of Commercial Space Transportation Web site at: http://www.faa.gov/go/ast; or

2. Contacting Julie Price or Glenn Rizner, AST-100, for program questions; or

3. Contacting Greg Carter, AGC-510, for legal questions.

| Office | Fax | Email
Julie Price | 202-493-5486 | 202-267-5463 | Julie.Price@faa.gov.
Glenn Rizner | 202-267-3194 | 202-267-5463 | Glenn.Rizner@faa.gov.
Greg Carter | 202-267-3186 | 202-267-5261 | Greg.Carter@faa.gov.

SUPPLEMENTARY INFORMATION:

Background

The Space Transportation Infrastructure Matching Grants Program is intended to “ensure the resiliency of the space transportation infrastructure in the United States.” To help further establish United States' Commercial Space Transportation-related goals, Congress established the Space Transportation Infrastructure Matching Grants Program, now found in 51 U.S.C. Chapter 511—Space Transportation Infrastructure Matching Grants. Congressional authorization was established FY 1994 for the use of Federal monies to fund up to fifty percent (50%) of total project cost in conjunction with state and local government funding. The legislation also requires a minimum of ten percent (10%) of the total project cost come from private funding. The first Congressional appropriation for the Space Transportation Infrastructure Matching Grants Program came in FY 2010. Should Space Transportation Infrastructure Matching Grants be awarded in FY 2012, this will be the third year of the program.

The FAA/AST reviews, evaluates, and oversees the Space Transportation Infrastructure Matching Grants Program. Notionally, the award of the grant monies will be on or about July 17, 2012. To meet this award date, applicants must submit their grant proposals on or before May 11, 2012. Additional information related to the Space Transportation Infrastructure Matching Grants Program can be found at the Office of Commercial Space Transportation Web site or by contacting one of the Points of Contacts; this information is listed above.

The Space Transportation Infrastructure Matching Grants Program

To meet the intent of the program, development projects eligible for funding include:

1. Technical and environmental studies; or

2. Construction, improvement, design, and engineering of space transportation infrastructure (including facilities and associated equipment).

The Space Transportation Infrastructure Matching Grants Program will not fund more than 50% of the total project cost, and project financing must include a private component of at least 10% of the total project cost.

Given that the FAA/AST may award multiple grants, applicants may submit multiple grant proposals, provided they are for separate projects and meet the matching requirements independently.

Environmental Requirements

Approval of grant funding is a major federal action subject to review under the National Environmental Policy Act (NEPA) of 1969, 42 U.S.C. 4321 et seq., as implemented by the regulations of the Council on Environmental Quality at 40 CFR part 1500 and FAA Order 1050.1E, Change 1, and other Federal environmental laws. Because of this, the FAA anticipates that it may be most cost-effective for applicants who have already undergone NEPA review to apply for a grant this fiscal year.

In order for a launch site to receive a license to operate, a NEPA review will already have been conducted. The launch site operator could seek a grant for projects that the FAA considered as part of that license. Although having a license is not a requirement for a grant award, the environmental requirements may already be met for launch sites with a license.

Under 51 U.S.C. 51104, infrastructure development projects selected for a Space Transportation Infrastructure Matching Grant must meet three additional environmental requirements:

1. The project must provide for the protection and enhancement of the natural resources and the quality of the environment of the United States. Specifically, if a project will have a significant, adverse environmental impact, the FAA/AST shall approve the grant application only after finding that no feasible and prudent alternative to the project exists and that all reasonable steps have been taken to minimize the adverse effect.

2. The sponsor must certify that an opportunity for a public hearing has been provided to consider the economic, social, and environmental impacts of the project and its consistency with the goals of any planning carried out by the community.

3. The Governor of the State in which the project is located, or his/her designee, must certify that there is reasonable assurance the project will be located, designed, constructed, and operated to comply with applicable air and water quality standards.

Planning projects, such as technical and environmental studies, normally qualify for categorical exclusion (CATEX) under NEPA and would not trigger the requirements listed above. If the project normally qualifies for a CATEX from environmental review, the grant proposal should reference the relevant paragraph in FAA Order 1050.1E, Polices and Procedures from Considering Environmental Impacts, and address whether extraordinary circumstances exist that warrant preparation of an environmental assessment (EA) or environmental impact statement (EIS).

For more details about the environmental review for commercial space transportation activities, please see Guidelines for Compliance with the National Environmental Policy Act and Related Environmental Review Statutes for the Licensing of Commercial Launches and Launch Sites at http://www.faa.gov/about/office_org/headquarters_offices/ast/environmental/review.

Who May Apply for a Space Transportation Infrastructure Matching Grant

The FAA/AST may make project grant awards to “sponsors,” per 51 U.S.C 51102. Per 51 U.S.C. 51101(6), a “sponsor” is a public agency that submits an application for a project grant. Per 51 U.S.C 51101(5), a “public agency” is a State or agency of a State, a political subdivision of a State, or a tax-supported organization.

Grant Award

The FAA/AST intends to award Space Transportation Infrastructure Matching Grants on or about July 17, 2012. An FAA/AST grant offer letter may contain requirements for assurances to ensure the grants are consistent with 51 U.S.C Chapter 511.

How To Apply for a Space Transportation Infrastructure Matching Grant

The application submission must include the following:

1. Cover letter, signed by public agency senior official, demonstrating the legal authority to engage in the project,

2. Detail as to how the proposed grant project meets the requirements of Chapter 703:

a. Documentation demonstrating authority as a public agency,

b. Demonstration that the grant will not be for more than 50% of the total cost of the project,

c. Letter(s) of Commitment from the private sector for at least 10% of the total cost of the project,

d. Detailed description of the project,

e. Contributions to capabilities that serve the United States' space transportation needs,

f. Impacts on the competitiveness of the United States space transportation industry, and

g. Discussion of environmental considerations, if applicable,

3. Consent from the head of the appropriate agency, should the project use Government property (land, equipment, etc.),

4. SF-424, Application for Federal Assistance (OMB Number 4040-0004),

5. One of the following:

a. SF-424A for non-construction proposals, or

b. SF-424C for construction proposals.

The forms request specific applicant information, project information, and an estimate of the funding and duration of the project. They are available at http://www.grants.gov.

Applicants for the Space Transportation Infrastructure Matching Grants Program must submit grant applications to the FAA/AST. Applicants must submit an original copy of the completed grant proposal, plus four additional copies. One copy (not the original) may be submitted electronically to Ms. Julie Price at Julie.Price@faa.gov, however the original and additional copies must be submitted to: Federal Aviation Administration, Office of Commercial Space Transportation, AST-100, c/o Ms. Julie Price, 800 Independence Avenue SW., Suite 325, Washington, DC 20591.

Should one copy be submitted electronically, a time stamp will be recorded for the submission. The original and all other copies must reach the office on or before 12 p.m. (noon), Eastern Time, Friday, May 11, 2012. If no copy is submitted electronically, the original and additional copies still must reach the office on or before 12 p.m. (noon), Eastern Time, Friday, May 11, 2012. There will be no allowance for extensions of time.

Previously submitted grant applications do not carry over and will not be considered. Applicants must resubmit past projects for consideration in the new fiscal year.

Issued in Washington, DC, on March 1, 2012.
George C. Nield,
Associate Administrator for Commercial Space Transportation.

[FR Doc. 2012-5706 Filed 3-8-12; 8:45 am]

BILLING CODE 4910-13-P